DEPARTMENT OF TRANSPORTATION

Federal Aviation Administration

[Docket No. FAA-2024-1064]

Agency Information Collection Activities: Requests for Comments; Clearance of a Renewed Approval of Information Collection: Operation of Small Unmanned Aircraft Systems Over People

AGENCY: Federal Aviation Administration (FAA), Department of Transportation (DOT).

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 2, 2024. The collection involves persons who submit a means of compliance (MOC) or declaration of compliance (DOC) for FAA acceptance. The collection also involves development of remote pilot operating instructions, labeling, and retaining maintenance records. The information to be collected will be used to comply with the requirements for small unmanned aircraft operations over people.

DATES: Written comments should be submitted by July 10, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Benjamin Walsh by email at: ben.walsh@faa.gov; phone: 202-267-8233.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0775.

Title: Operation of Small Unmanned Aircraft Systems over People.

Form Numbers: N/A.

Type of Review: Renewal of an information collection.

Background: The Federal Register Notice with a 60-day comment period soliciting comments on the following collection of information was published on April 2, 2024 (89 FR 22764). Under the authority of 49 U.S.C. 44807, the FAA is requiring that persons submit a means of compliance or declaration of compliance for FAA-acceptance to demonstrate compliance with the requirements in 14 CFR part 107, supbart D for small UAS operations over people. Persons may submit a means of compliance by providing the information required in part 107 to the email address listed on the FAA website at uasdoc.faa.gov. Persons may submit a declaration of compliance using the online form at uasdoc.faa.gov. Persons must also develop remote pilot operating instructions and provide labels for small UAS with a declaration of compliance for operations in Category 2 or 3 of part 107, subpart D. Operators of small UAS issued an airworthiness certificate under 14 CFR part 21 must retain records of all maintenance performed on their aircraft and records documenting the status of life-limited parts, compliance with airworthiness directives, and inspection status of the aircraft.

Respondents: Any person can submit a means of compliance for FAA acceptance. Manufacturers and persons who design or modify a small UAS to meet the requirements of part 107, subpart D, can submit a declaration of compliance. The FAA estimates that a total of 8 means of compliance and declarations of compliance will be submitted per year. Persons who submit a declaration of compliance for small UAS operated in Categories 2 or 3 are required to develop remote pilot operating instructions and label their small UAS in accordance with the requirements in part 107. Operators of small UAS that have a part 21 airworthiness certificate must retain certain maintenance records when operated under part 107, subpart D.

Frequency: On occasion.

Estimated Average Burden per Response: For submission of means of compliance or declaration of compliance: 50 hours per response. For remote pilot operating instructions: 150 hours per response. For labelling of small UAS: 2 hours per response. For part 107, Category 4 maintenance records: 1 hour per response.

Estimated Total Annual Burden: For means of compliance and declarations of compliance, the FAA estimates a total of 8 means of compliance and declarations of compliance submitted per year for an annual burden of 400 hours. The FAA estimates there will be one re-submission of a declaration of compliance for a total of 50 hours. For remote pilot operating instructions, the FAA estimates 8 instructions developed per year, for a total annual burden of 1,200 hours. For unmanned aircraft labels, the FAA estimates 8 labels designed per year, for a total annual burden of 16 hours. For part 107, Category 4 maintenance records, the FAA estimates 100 records per year, for a total annual burden of 100 hours.

Issued in Washington, DC, on June 5, 2024.
Joseph Morra,
Manager, Emerging Technologies Division, AFS-700.

[FR Doc. 2024-12665 Filed 6-7-24; 8:45 am]

BILLING CODE 4910-13-P